DEPARTMENT OF DEFENSE

Department of the Navy

Information on Surplus Land at a Military Installation Designated for Disposal: Naval Station Ingleside, Texas Electro Magnetic Reduction Facility

AGENCY: Department of the Navy, DoD.

ACTION: Notice.

SUMMARY: This notice provides information on the surplus property at Naval Station Ingleside, TX Electro Magnetic Reduction Facility.

FOR FURTHER INFORMATION CONTACT: Ms. Kimberly Kesler, Director, Base Realignment and Closure Program Management Office, 1455 Frazee Road, San Diego, CA 92108-4310, telephone 619-532-0993; or Mr. James E. Anderson, Director, Base Realignment and Closure Management Office, Southeast, 2144 Eagle Drive, North Charleston, SC 29406, telephone 843-820-5809.

SUPPLEMENTARY INFORMATION: In 2005, Naval Station Ingleside, TX Electro Magnetic Reduction Facility was designated for closure under the authority of the Defense Base Closure and Realignment Act of 1990, Public Law 101-510, as amended (the Act). Pursuant to this designation, on January 23, 2006, land and facilities at this installation were declared excess to the Department of Navy (Navy) and available to other Department of Defense components and other Federal agencies. The Navy has evaluated all timely Federal requests and has made a decision on property required by the Federal Government.

Notice of Surplus Property. Pursuant to paragraph (7)(B) of Section 2905(b) of the Act, as amended by the Base Closure Community Redevelopment and Homeless Assistance Act of 1994, the following information regarding the redevelopment authority for surplus property at Naval Station Ingleside, TX Electro Magnetic Reduction Facility is published in the Federal Register.

Surplus Property Description. The following is a list of the land and facilities at Naval Station Ingleside, TX Electro Magnetic Reduction Facility that are surplus to the needs of the Federal Government.

a. Land. Naval Station Ingleside, TX Electro Magnetic Reduction Facility consists of approximately 46.35 acres of highland, with a 3.6 access road easement, located within San Patricio County and the City of Ingleside. An additional 105.48 acres of abutting submerged land is located within Nueces County and the City of Corpus Christi. In general, these areas will be available when the installation closes in September 2010.

b. Buildings. The following is a summary of the buildings and other improvements located on the above-described land that will also be available when the installation closes. Property numbers are available on request.

(1) Operations facilities (3 structures). Comments: Approximately 4,500 square feet.

(2) Maintenance facility (1 structure). Comments: Approximately 1,060 square feet.

(3) Paved areas (roads and surface areas). Comments: Approximately 15,510 square yards consisting of roads, sidewalks, parking lots, etc.

(4) Pier. Comments: Approximately 1,530 square yards.

Disposal Procedures. At such time as a Local Redevelopment Authority (LRA) is recognized in accordance with Section 2905(b)(7)(B) of the Act, the Department of Defense will publish in the Federal Register and in a newspaper of general circulation in the communities in the vicinity of the installation information on the LRA. The LRA will commence a community outreach effort with respect to the surplus property and will publish in a newspaper of general circulation in the communities within the vicinity of Naval Station Ingleside, TX Electro Magnetic Reduction Facility, a notice of the time period during which the LRA will receive notices of interest from State and local governments, representatives of the homeless, and other interested parties. That publication will include the name, address, telephone number, and the point of contact for the LRA who can provide information on the prescribed form and contents of the notices of interest.

Dated: May 3, 2006.
Eric McDonald,
Lieutenant Commander, Judge Advocate General's Corps, U.S. Navy, Federal Register Liaison Officer.

[FR Doc. E6-7080 Filed 5-9-06; 8:45 am]

BILLING CODE 3810-FF-P